FEDERAL LABOR RELATIONS AUTHORITY

Membership of the Federal Labor Relations Authority's Senior Executive Service Performance Review Board

AGENCY: Federal Labor Relations Authority.

ACTION: Notice.

SUMMARY: Notice is hereby given of the members of the Performance Review Board.

DATE: July 10, 2001.

FOR FURTHER INFORMATION CONTACT: Michele Pilipovich, Human Resources Director, Federal Labor Relations Authority (FLRA), 607 Fourteenth Street, NW., Washington, DC 20424-0001; (202) 482-6690, extension 423.

SUPPLEMENTARY INFORMATION: Section 4314(c)(1) through (5) of title 5, U.S.C., requires that each agency establish, in accordance with the regulations prescribed by the Office of Personnel Management, one or more Performance Review Boards. The Boards shall review and evaluate the initial appraisal of a senior executive's performance by the supervisor, along with any recommendations to the appointing authority relative to the performance of the senior executive.

The following persons will serve on the FLRA's Performance Review Board:

Solly Thomas, Office of the Executive Director, FLRA

James Petrucci, Office of the General Counsel, FLRA

Gloria Joseph, National Labor Relations Board

Stephen Crable, National Mediation Board

Brian Flores, Federal Mediation and Conciliation Service.

Dated: July 5, 2001.
Michele Pilipovich,
Human Resources Director.

[FR Doc. 01-17225 Filed 7-9-01; 8:45 am]

BILLING CODE 6727-01-P